ENVIRONMENTAL PROTECTION AGENCY

[FRL-9637-01-OW]

Notice of Public Meeting of the Environmental Financial Advisory Board With Webcast

AGENCY: Environmental Protection Agency (EPA).

ACTION: Notice of public meeting.

SUMMARY: The United States Environmental Protection Agency (EPA) announces a public meeting with a webcast of the Environmental Financial Advisory Board (EFAB). The meeting will be shared in real-time via webcast and public comments may be provided in writing in advance or virtually via webcast. Please see SUPPLEMENTARY INFORMATION for further details. The purpose of the meeting will be for the EFAB to provide workgroup updates and work products for previously accepted charges, consider possible future advisory topics, and receive updates on EPA activities relating to the Bipartisan Infrastructure Law, administration priorities, and environmental finance. The meeting will be conducted in a hybrid format of in-person and virtual via webcast. An announcement will be made on the EFAB website at www.epa.gov/waterfinancecenter/efab and all registered attendees will be notified.

DATES: The meeting will be held on March 29, 2022, from 12 p.m. to 4 p.m. Eastern Time and March 30, 2022, from 12 p.m. to 4 p.m. Eastern Time.

ADDRESSES:

In-Person: U.S. Environmental Protection Agency, William Jefferson Clinton East Building, 1201 Constitution Avenue NW, Washington, DC 20004.

Webcast: Information to access the webcast will be provided upon registration in advance of the meeting.

FOR FURTHER INFORMATION CONTACT: Any member of the public who wants information about the meeting may contact Tara Johnson via telephone/voicemail at (202) 564-6186 or email to efab@epa.gov. General information concerning the EFAB is available at www.epa.gov/waterfinancecenter/efab.

SUPPLEMENTARY INFORMATION: Background: The EFAB is an EPA advisory committee chartered under the Federal Advisory Committee Act (FACA), 5 U.S.C. App. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a public meeting with a webcast for the following purposes:

(1) Provide workgroup updates and work products for the Board's Opportunity Zones and Pollution Prevention charges;

(2) Discuss potential future EFAB charges; and

(3) Receive briefings on environmental finance topics from invited speakers from EPA and outside entities.

Registration for the Meeting: To register for the meeting, please visit www.epa.gov/waterfinancecenter/efab#meeting. Interested persons who wish to attend the meeting via webcast must register by March 22, 2022. Pre-registration is strongly encouraged. EFAB members who wish to attend the meeting in-person must comply with EPA's current COVID-19 Safe Federal Workplace requirements, found at www.epa.gov/aboutepa/covid-19-safe-federal-workplace. In the event the in-person component of the meeting cannot be held due to relevant pandemic protocols, the meeting will be conducted fully via webcast. Members of the public, including those providing oral comment, are encouraged to participate via webcast or, if attending in-person, must also comply with the above requirements.

Availability of Meeting Materials: Meeting materials, including the meeting agenda and briefing materials, will be available on EPA's website at www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public may submit comments on matters being considered by the EFAB for consideration as the Board develops its advice and recommendations to EPA.

Oral Statements: In general, individuals or groups requesting an oral presentation at a public meeting will be limited to three minutes each. Persons interested in providing oral statements at the March 2022 meeting virtually via webcast should register in advance and provide notification, as noted in the registration confirmation, by March 22, 2022, to be placed on the list of registered speakers.

Written Statements: Written statements should be received by March 22, 2022, so that the information can be made available to the EFAB for its consideration prior to the meeting. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the meeting and list any special requirements or accommodations needed on the registration form at least 10 business days prior to the meeting to allow as much time as possible to process your request.

Dated: March 4, 2022.
Andrew D. Sawyers,
Director, Office of Wastewater Management, Office of Water.

[FR Doc. 2022-05041 Filed 3-9-22; 8:45 am]

BILLING CODE 6560-50-P